DEPARTMENT OF ENERGY

Federal Energy Regulatory Commission

Notice of Application for Amendment of License and Soliciting Comments, Motions to Intervene, and Protests

June 2, 2006.

Take notice that the following application has been filed with the Commission and is available for public inspection:

a. Application Type: Amendment of License to Change Transmission Line Route.

b. Project No.: 12451-004.

c. Date Filed: April 24, 2006.

d. Applicant: SAF Hydroelectric, LLC.

e. Name of Project: Lower St. Anthony Falls Project.

f. Location: The project is located on the Mississippi River, in Hennepin County, Minnesota.

g. Filed Pursuant to: Federal Power Act, 16 U.S.C. 791a-825r.

h. Applicant Contact: Mr. Douglas A. Spaulding, Spaulding Consultants, 1433 Utica Avenue South, Suite 162, Minneapolis, MN 55416, Phone: (952) 544-8133.

i. FERC Contact: Any questions on this notice should be addressed to Mr. Robert Bell at (202) 502-6062.

j. Deadline for filing comments and or motions: July 3, 2006.

k. Description of Request: SAF Hydroelectric, LLC (SAF) filed an amendment request for its license to change the project's transmission line route. SAF says it no longer plans to construct the 1,030-foot-long underground primary transmission line that is authorized by the license. Instead, it proposes to install a 13.8-kV transmission line consisting of a 75-foot buried line originating at the project's control building and connecting to an existing power pole located in the Corp's service yard. From there, the line would extend to the Elliott Park Substation on existing Northern States' transmission poles with pole “extenders” attaching three new lines on top of the poles. SAF is not proposing any changes to the project operation.

l. Locations of the Application: A copy of the application is available for inspection and reproduction at the Commission's Public Reference Room, located at 888 First Street, NE., Room 2A, Washington, DC 20426, or by calling (202) 502-8371. Information about this filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-9088 Filed 6-9-06; 8:45 am]

BILLING CODE 6717-01-P